DEPARTMENT OF ENERGY

Federal Energy Regulatory Commission

[Project No. 13734-003]

Lock + Hydro Friends Fund V; Notice of Preliminary Permit Application Accepted for Filing and Soliciting Comments, Motions To Intervene, and Competing Applications

On January 13, 2017, Lock + Hydro Friends Fund V filed an application for a preliminary permit, pursuant to section 4(f) of the Federal Power Act (FPA), proposing to study the feasibility of the Hildebrand Lock & Dam Project (Hildebrand Project or project) to be located at the U.S. Army Corps of Engineers' (Corps) Hildebrand Lock and Dam on the Monongahela River in Monongalia County, West Virginia. The sole purpose of a preliminary permit, if issued, is to grant the permit holder priority to file a license application during the permit term. A preliminary permit does not authorize the permit holder to perform any land-disturbing activities or otherwise enter upon lands or waters owned by others without the owners' express permission.

The proposed project would consist of the following: (1) A new 55-foot-long by 40-foot-high Large Frame Module (LFM); (2) two pre-fabricated concrete walls if needed; (3) a new 50-foot-wide by 100-foot-long tailrace; (4) five low-head modular bulb hydroelectric turbine-generators each rated at 1.5 megawatts; (5) a low-voltage, 36.7-kilovolt (kV) distribution line from the generator to the new switchyard; (6) a new 25-foot-wide by 50-foot-long switchyard; and (7) a new 69-kV transmission line approximately 1,000 feet long from the new switchyard to an existing substation. The estimated annual generation of the Hildebrand Project would be 66,974 megawatt-hours.

Applicant Contact: Mr. Wayne Krouse, Lock + Hydro Friends Fund V, P.O. Box 43796, Birmingham, AL 35243; phone: (877) 556-6566.

FERC Contact: Woohee Choi; phone:(202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13734-003.

More information about this project, including a copy of the application, can be viewed or printed on the “eLibrary” link of the Commission's Web site at http://www.ferc.gov/docs-filing/elibrary.asp. Enter the docket number (P-13734) in the docket number field to access the document. For assistance, contact FERC Online Support.

Dated: January 23, 2017.
Kimberly D. Bose,
Secretary.

[FR Doc. 2017-01911 Filed 1-27-17; 8:45 am]

BILLING CODE 6717-01-P